CONSUMER PRODUCT SAFETY COMMISSION

16 CFR Part 1450

Virginia Graeme Baker Pool and Spa Safety Act; Public Accommodation; Withdrawal of Proposed Rule

AGENCY: Consumer Product Safety Commission.

ACTION: Withdrawal of proposed rule.

SUMMARY: In the Federal Register of March 15, 2010, the Consumer Product Safety Commission (“CPSC” or “Commission”) issued a proposed interpretive rule that would interpret the term “public accommodations facility” as used in the Virginia Graeme Baker Pool and Spa Safety Act (“VGB Act” or “Act”) as “an inn, hotel, motel, or other place of lodging, except for an establishment located within a building that contains not more than five rooms for rent or hire and that is actually occupied by the proprietor of such establishment as the residence of such proprietor” (75 FR 12167). The Commission is withdrawing the March 15, 2010 proposed interpretive rule and, elsewhere in this issue of the Federal Register, is issuing a new proposed interpretive rule with a 60-day comment period which would interpret “public accommodations facility” as “an inn, hotel, motel, or other place of lodging, including but not limited to, rental units rented on a bi-weekly or weekly basis.”

DATES: The proposed interpretive rule is withdrawn as of October 22, 2010.

FOR FURTHER INFORMATION CONTACT: Barbara E. Little, Office of the General Counsel, Consumer Product Safety Commission, 4330 East West Highway, Bethesda, Maryland 20814; e-mail blittle@cpsc.gov.

SUPPLEMENTARY INFORMATION: The Commission published a proposed interpretive rule on the definition of “public accommodations facility in the Federal Register of March 15, 2010 (75 FR 12167). The proposed interpretive rule would interpret “public accommodations facility” to mean: “An inn, hotel, motel, or other place of lodging, except for an establishment located within a building that contains not more than five rooms for rent or hire and that is actually occupied by the proprietor of such establishment as the residence of such proprietor.”

CPSC staff prepared a draft final interpretative rule for the Commission's approval, but, on August 4, 2010, the Commission voted to withdraw the proposed interpretive rule and to direct CPSC staff to draft a new proposed interpretive rule with a 60-day comment period and interpreting “public accommodations facility” as “an inn, hotel, motel, or other place of lodging, including, but not limited to, rental units rented on a bi-weekly or weekly basis.” The Commission preliminarily determined that the exception for an owner-occupied establishment located within a building that contains not more than five rooms for rent or hire is inappropriate in the context of pool and spa safety because the number of units for rent or hire has no bearing on the safety of the pool. In addition, the Commission wanted to make clear that a residential facility may become a “place of lodging” if the facility were to offer a significant number of short term stays.

Thus, the Commission, through this notice, is withdrawing the March 15, 2010 proposed interpretive rule. Elsewhere in this issue of the Federal Register, the Commission is issuing a new proposed interpretive rule to interpret “public accommodations facility” in the VGB Act as “an inn, hotel, motel, or other place of lodging, including, but not limited to, rental units rented on a bi-weekly or weekly basis.”

Dated: October 15, 2010.
Todd A. Stevenson,
Secretary, Consumer Product Safety Commission.

[FR Doc. 2010-26521 Filed 10-21-10; 8:45 am]

BILLING CODE 6355-01-P